DEPARTMENT OF COMMERCE

National Oceanic and Atmospheric Administration

[I.D. 090100B]

Regulations Under the Marine Mammal Protection Act Governing the Small Take of Marine Mammals Incidental to Specific Activities

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before November 7, 2000.

ADDRESSES: Direct all written comments to Madeleine Clayton, Departmental Forms Clearance Officer, Department of Commerce, Room 6086, 14th and Constitution Avenue NW, Washington DC 20230 (or via Internet at MClayton@doc.gov).

FOR FURTHER INFORMATION CONTACT: Requests for additional information or copies of the information collection instrument(s) and instructions should be directed to Kenneth R. Hollingshead, Marine Mammal Conservation Division, Office of Protected Resources, National Marine Fisheries Service (NMFS), 1315 East-West Highway, Silver Spring, MD 20910-3226, Telephone: (301) 713-2055, ext. 128.

SUPPLEMENTARY INFORMATION:

I. Abstract

The Marine Mammal Protection Act of 1972 (MMPA, 16 U.S.C. 1361 et seq.) imposed, with certain exceptions, a moratorium on the taking of marine mammals. Taking means to harass, hunt, capture, or kill, or attempt to harass, hunt, capture or kill any marine mammal. Sections 101(a)(5)(A) and 101(a)(5)(D) of the MMPA direct the Secretary of Commerce (Secretary) to allow, upon request, the taking of small numbers of marine mammals incidental to specified regulations that, among other things, establish permissible methods of taking provided NMFS determines that the taking is having a negligible impact on affected marine mammals. If a negligible impact on marine mammals can be determined, the MMPA allows the Secretary to authorize the activity provided monitoring and reporting of the activity’s impact on marine mammals can be carried out. Procedural regulations outlining the requirements for the submission of requests for taking are contained in 50 CFR 216 Subpart I. Specific regulations governing authorized activities are contained in subsequent subparts to Subpart I. These regulations also require authorized activities to monitor and report interactions with marine mammals.

Information in a request for a Letter of Authorization (LOA) (to conduct activities under the regulations) varies by activity. It is used to determine if the applicant falls within the scope of the specific regulations, needs new regulations, or if an authorization for an Incidental Harassment Authorization (IHA) is warranted. Information required concerns the dates, location, methods and level of activity to determine if the potential taking is covered by the specific regulations and the statute.

Because the negligible impact determination had not been made previously under regulations, information in a request for an IHA needs to include both a description of the activity and an assessment of the impacts on marine mammals in the vicinity of the activity. In this case, the application for a harassment authorization needs to be as detailed as those submitted in a request for regulations that authorize marine mammals takings incidental to the activity.

Reporting takings incidental to the activity is required by the MMPA. Generally, an interim report is required approximately 90 days after completion of an activity or at the end of the authorization, whichever is earlier. If complex data analyses are required, a final report may be required. Ninety-day reports, annual reports, and final reports must include a description of the activity including time, location, and place; a summary of the monitoring program, an assessment of the effects of the activity on marine mammals including the estimated level of take by species, and any other additional requirements listed in either the LOA or IHA.

II. Method of Collection

Written submissions are made responding to requirements in regulations.

III. Data

OMB Number: 0648-0151.

Form Number: None.

Type of Review: Regular submission.

Affected public: Business and other for-profit organizations, not-for-profit institutions, federal and state governments.

Estimated Number of Respondents: 24-30/year.

Estimated Time Per Response: Varies from 3 hrs to 480 hrs depending upon type and complexity.

Estimated Total Annual Burden Hours: 4,565.

Estimated Total Annual Cost to Public: $1,200.

IV. Request for Comments

Comments are invited on: (a) Whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 31, 2000.
Madeleine Clayton,
Departmental Forms Clearance Officer, Office of the Chief Information Officer.

[FR Doc. 00-23134 Filed 9-7-00; 8:45 am]

BILLING CODE 3510-22-S